DEPARTMENT OF HEALTH AND HUMAN SERVICES

Centers for Disease Control and Prevention

[60 Day-01-17]

Foreign Quarantine Regulations; Proposed Data Collections Submitted for Public Comment and Recommendations

In compliance with the requirement of Section 3506 (c) (2) (A) of the Paperwork Reduction Act of 1995, the Centers for Disease Control and Prevention (CDC) is providing an opportunity for public comment on proposed data collection projects. To request more information on the proposed projects or to obtain a copy of the data collection plans and instruments, call the CDC Reports Clearance Officer at 404-639-7090. Comments are invited on: (i) Whether the proposed collection of information is necessary for the proper performance of the functions of the CDC, including whether the information shall have a practical utility; (ii) the accuracy of the agency's estimate of the burden of the proposed collection of information; (iii) ways to enhance the quality, utility, and clarity of the information to be collected; and (iv) ways to minimize the burden of the collection of information on respondents, including the use of automated collection techniques for other forms of information technology. Send comments to Anne O'Connor, Assistant Reports Clearance Officer, 1600 Clifton Road, MS-D24, Atlanta, Georgia 30333. Written comments should be received within 60 days of this notice.

Proposed Project

Survey of User Satisfaction with National Health Care Survey Data—New—National Center for Health Statistics (NCHS), Centers for Disease Control and Prevention (CDC). This Survey of User Satisfaction with National Health Care Survey Data is needed to provide current information on the use and usefulness of the variety of data products describing health care delivery systems in the United States. The National Health Care Survey comprises several component surveys: National Hospital Discharge Survey, National Nursing Home Survey, National Home and Hospice Care Survey, National Ambulatory Medical Care Survey, National Hospital Ambulatory Medical Care Survey and occasional other similar surveys when funded, such as the National Health Provider Inventory. Unlike other national surveys conducted by CDC National Center for Health Statistics, the National Health Care surveys address the health care delivery systems rather than the vital statistics, health status, health-related behavior, and access to care experienced by individuals and households who are consumers of the health care delivery systems. Between the years of 1968 and 1984, a number of surveys were conducted to learn more about National Center for Health Statistics (NCHS) data users and to assess the quality of data dissemination activities conducted by NCHS. Studies focusing solely on user satisfaction with National Health Care Survey data products have not been conducted since 1984. We need current specific information on how well our users' needs are being met, how to improve our data products, and how to serve current non-users of our data who are, nonetheless, potential users. Our data products consist mainly of published reports and web-published data sets including Data Highlights and E-Stats. Our published reports include Advance Data Reports, a newsletter-like summary of more detailed analyses to be published later, and Series Reports, which are in-depth analyses of specific topics addressed by our collected data. As the contractor for this project, CHPS Consulting will conduct a multi-mode survey using a web-based survey for those in the sample for whom an email address is available and a mail survey for those without an email address. Current users will be asked questions about what publications they use, how they use them, and their opinion of the timeliness, accessibility, format, and quality of the data publications. Non-users will be asked why they do not use our publications, their current sources of health care provider data, and how we improve data products to meet their needs. Our target population will include the following groups of persons: researchers, educators, health facility administrators, practitioners, and policymakers. Our goal for this survey is to obtain 600 returned surveys with an approximately equal number of returned surveys from users and non-users. There is no cost to respondents other than their time in responding.The total annualized burden is 75 hours.

Respondents | Number of respondents | Number of responses per respondent | Avg. burden per response (in hrs.) | Total response per burden (in hrs.)
Users | 300 | 1 | 10/60 | 50
Non-Users | 300 | 1 | 5/60 | 25
Total | 600 |  |  | 75

Dated: January 16, 2001.
Nancy Cheal,
Acting Associate Director for Policy, Planning, and Evaluation Centers for Disease Control and Prevention (CDC).

[FR Doc. 01-1995 Filed 1-22-01; 8:45 am]

BILLING CODE 4163-18-P